DEPARTMENT OF COMMERCE

Bureau of the Census

[Docket Number 030829216-3216-01]

RIN 0607-AA40

Annual Trade Survey

AGENCY: Bureau of the Census, Commerce.

ACTION: Notice and request for comments.

SUMMARY: The Bureau of the Census (Census Bureau) is proposing to expand the 2003 Annual Trade Survey (ATS) to include manufacturers' sales branches and offices (MSBO). The Census Bureau proposes this expansion at the request of the Bureau of Economic Analysis (BEA). The BEA considers this information vital to its accurate measurement of sales and inventories for wholesale trade. These data are important inputs to BEA's preparation of National Income and Product accounts and its annual input-output tables.

DATES: Written comments must be submitted on or before October 15, 2003.

ADDRESSES: Direct all written comments to the Director, U.S. Census Bureau, Room 2049, Federal Building 3, Washington, DC 20233.

FOR FURTHER INFORMATION CONTACT: John Trimble, Chief, Annual Trade and Special Projects Branch, Service Sector Statistics Division, on (301) 763-7223, or by e-mail: John Trimble@census.gov.

SUPPLEMENTARY INFORMATION: The Census Bureau is authorized to conduct surveys necessary to furnish current data on subjects covered by the major censuses authorized by Title 13, United States Code (U.S.C.), Sections 182, 224, and 225. Reporting by MSBO establishments will be mandatory and provide continuing and timely national statistical data. Data collected in this survey will be within the general scope, type, and character of those inquiries covered in the Economic Census.

The current ATS collects data only for merchant wholesalers. The expanded survey will include a selected sample of firms and operating establishments primarily selling goods that they manufacture in the United States. These data will be a vital source for accurately measuring sales, inventories, and operating expenses for wholesale trade. The BEA has made repeated requests for this information. The expanded ATS will cover approximately 90 percent of sales from the wholesale sector and over 99 percent of its inventories compared to about 58 percent of sales and 85 percent of inventories in the present ATS sample.

Beginning with the survey year 2003, the goal will be to maximize industry coverage within our available resources. In order to establish reporting arrangements and reduce respondent burden, we will mail report forms to a sample of firms on a company basis and contact them in person, as well as by phone and mail. We will mail a survey introduction letter followed by report forms to the firms covered by this survey and require the report forms to be returned thirty days after receipt. The report forms will request similar data items, but different forms are needed to accommodate both merchant wholesale and MSBO companies as well as both large and small firms. Later, as necessary, additional mail follow-ups and telephone follow-ups will be conducted.

The primary users of these data will be federal, state and local government agencies, including the Bureau of the Census, BEA, and the Environmental Protection Agency. Other users will include business firms, academics, trade associations, and research and consulting organizations.

Rulemaking Requirements

Executive Order 12866

This rule has been determined to be not significant for purposes of Executive Order 12866.

Regulatory Flexibility Act

The Chief Counsel for Regulation of the Department of Commerce certified to the Chief Counsel for Advocacy of the Small Business Administration that this rule would not have a significant economic impact on a substantial number of small entities. The Census Bureau is proposing to expand the 2003 Annual Trade Survey (ATS) to include manufacturers' sales branches and offices (MSBO). If this proposed rule is adopted, the expanded ATS would cover approximately 90 percent of sales from the wholesale sector and over 99 percent of its inventories compared to about 58 percent of sales and 85 percent of inventories in the present ATS sample.

If this rule is adopted, it is estimated that the survey will require an additional 1,800 MSBOs to respond to the survey. It is estimated that approximately 1,200, or 67 percent, of the respondents would be small entities. The approximate total additional burden hours as a result of this rule is 800 hours (27 minutes per survey). This includes time for reviewing the instructions, searching existing data sources, gathering and maintaining the data needed, and completing and reviewing the information collection. The total cost is estimated to be $14,560 based on an annual response burden of 800 hours and a rate of $18.20 per hour to complete the form. The total cost to respondents that are small entities is estimated to be $9,755.

Because small businesses are subject to minimal recording-keeping and reporting burdens as a result of this rule, the Chief Counsel for Regulation certifies that this proposed rule will not have a significant impact on a substantial number of small entities.

Paperwork Reduction Act

Notwithstanding any other provision of law, no person is required to respond to, nor shall a person be subject to a penalty for failure to comply with, a collection of information subject to requirements of the Paperwork Reduction Act (PRA), unless that collection of information displays a current valid Office of Management and Budget (OMB) control number. This proposed rule contains a collection of information subject to the requirements of the Paperwork Reduction Act (44 U.S.C. 3501 et seq.). In accordance with the PRA, this collection of information will be submitted to OMB for approval. We estimate the number of additional respondents to be 1,800 and estimate an additional 800 annual burden hours with this expanded data collection. Also, we estimate that the time for the additional responses associated with this data collection will be approximately 27 minutes. We will furnish report forms to organizations included in the survey, and additional copies will be available on written request to the Director, U.S. Census Bureau, Washington, DC 20233-0101.

Dated: September 9, 2003.
Charles Louis Kincannon,
Director, Bureau of the Census.

[FR Doc. 03-23352 Filed 9-12-03; 8:45 am]

BILLING CODE 3510-07-P